DEPARTMENT OF TRANSPORTATION

Federal Railroad Administration

[Docket Number FRA-2010-0084]

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of the signal, as detailed below.

Docket Number: FRA-2010-0084.

Applicant: Pan Am Railways, Mr. Timothy R. Kunzler, Chief Engineer, C&S, Iron Horse Park, North Billerica, MA 01862.

Approval is requested for the discontinuance of an interlocking on the Freight Main Line (FML) of Pan Am Southern, LLC. (PAS). The applicant's corporate name is Springfield Terminal Railway Company (ST). ST is the operator of the railroad line for PAS, owner. PAS is a joint venture between the Boston and Maine Corporation (B&M) and the Norfolk Southern Railway Company. Both ST and B&M are wholly owned subsidiaries of Pan Am Railways, Inc. ST seeks approval of the discontinuance and removal of CPF-428 at mileage 427.71. CPF-428 is located within the Town of Williamstown, Massachusetts, on FML of PAS. The closest station on the line is at Powal, Vermont, at mileage 431.43. The territory is the responsibility of PAS General Manager, and is under the direct control of the Dispatching District Four Train Operations Manager located at ST's North Billerica, Massachusetts, Operations Center. The modification consist of the discontinuance and removal of CPF-428, all associated appliances, and the installation of an automatic block signal at mile 428.27.

The reason given for the proposed change is that the second main track was removed from service in the early 1990's. The power switch and connection to this second main track were physically removed.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0084) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on June 10, 2010.
Robert C. Lauby,
Deputy Associate Administrator for Regulatory and Legislative Operations.

[FR Doc. 2010-14480 Filed 6-15-10; 8:45 am]

BILLING CODE 4910-06-P